DEPARTMENT OF HEALTH AND HUMAN SERVICES

Administration for Children and Families

Proposed Information Collection Activity; ORR Serious Medical Procedure Request (SMR) Form (New Collection)

AGENCY: Office of Refugee Resettlement, Administration for Children and Families, HHS.

ACTION: Request for Public Comment.

SUMMARY: The Office of Refugee Resettlement (ORR), Administration for Children and Families (ACF), U.S. Department of Health and Human Services (HHS), is proposing to collect data for a new data collection, the Serious Medical Procedure Request (SMR) Form.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION: Description: Children with complex medical/dental conditions may require surgical intervention or procedures in order to maintain and promote their health while in ORR custody. Procedures requiring general anesthesia, surgeries, and invasive diagnostic procedures (e.g., cardiac catheterization, invasive biopsy, amniocentesis) require advance ORR approval. Before a decision can be rendered by ORR, data on clinical indications, risks and benefits of the surgery/procedure, potential adverse outcomes if services are not rendered, timeframe for recovery, follow-up care, and points of contact must be collected and submitted to ORR. The Form is not required for emergency procedures, procedures performed during hospitalization, or procedures resulting from complication of a previously approved procedure.

Respondents: Healthcare providers, ORR grantee staff.

Annual Burden Estimates:

Estimated Opportunity Burden for Respondents
Instrument | Annual number of respondents | Annual number of responses per respondent | Average burden hours per response | Total burden hours | Annual burden hours
Healthcare providers:
Serious Medical Procedure Request (SMR) Form | 195 | 1 | .22 | 128.7 | 42.9

Estimated Total Annual Burden Hours: 42.9.

Instrument | Annual number of respondents | Annual number of responses per respondent | Average burden hours per response | Total burden hours | Annual burden hours
ORR Grantee Staff:
Serious Medical Procedure Request (SMR) Form | 195 | 1 | .08 | 46.8 | 15.6

Estimated Total Annual Burden Hours: 15.6.

Estimated Recordkeeping Burden for Respondents
Instrument | Annual number of respondents | Annual number of responses per respondent | Average burden hours per response | Total burden hours | Annual burden hours
ORR Grantee Staff:
Serious Medical Procedure Request (SMR) Form | 195 | 1 | .08 | 46.8 | 15.6

Estimated Total Annual Burden Hours: 15.6.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279: Exhibit 1, part A.2 of the Flores Settlement Agreement (Jenny Lisette Flores, et al., v. Janet Reno, Attorney General of the United States, et al., Case No. CV 85-4544-RJK [C.D. Cal. 1996]).

John M. Sweet Jr.,
ACF/OPRE Certifying Officer.

[FR Doc. 2020-19537 Filed 9-2-20; 8:45 am]

BILLING CODE 4184-45-P